DEPARTMENT OF LABOR

Occupational Safety and Health Administration

[Docket No. ICR-1218-0198 (2001)]

Logging Operations Standard; Extension of the Office of Management and Budget's (OMB) Approval of an Information-Collection (Paperwork) Requirements

AGENCY: Occupational Safety and Health Administration (OSHA), Labor.

ACTION: Notice of an opportunity for public comment.

SUMMARY: OSHA solicits comments concerning its proposal to decrease the existing burden-hour estimates, and to extend OMB approval of the collection-of-information requirements, of the Logging Operations Standard (29 CFR 1910.266).

DATES: Submit written comments on or before July 2, 2001.

ADDRESSES: Submit written comments to the Docket Office, Docket No. ICR-1218-0198 (2001), OSHA, U.S. Department of Labor, Room N-2625, 200 Constitution Avenue, NW., Washington, DC 20210; telephone (202) 693-2350. Commenters may transmit written comments of 10 pages or less by facsimile to (202) 693—1648.

FOR FURTHER INFORMATION CONTACT: Theda Kenney, Directorate of Safety Standards Programs. OSHA, U.S. Department of Labor, Room N-3609, 200 Constitution Avenue, NW., Washington, DC 20210; telephone (202) 693-2222. A copy of the Agency's Information-Collection Request (ICR) supporting the need for the information collections specified in the Logging Operations Standard is available for inspection and copying in the Docket Office, or by requesting a copy from Theda Kenney at (202) 693-2222. For electronic copies of the ICR contact OSHA on the Internet at http://www.osha.gov/comp-links.html and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are understandable, and OSHA's estimate of the information-collection burden is correct.

Paragraph (i)(1) of the Logging Operations Standard (§ 1910.266; hereafter, “Standard”) requires employers to provide training for each employee, including supervisors. To meet this requirement, employers must conduct the training at the frequencies specified by paragraph (i)(2). Paragraph (i)(3) requires that an employee's training must consist of the following elements: Safe work practices, including the use, operation, and maintenance of tools, machines, and vehicles the employee uses or operates, as well as procedures, practices, and requirements of the employer's worksite; recognition and control of health and safety hazards associated with the employee's specific work tasks and logging operations in general; and the requirements of the Standard. Under paragraph (i)(7), employers must assure that every employee, including supervisors, receives first-aid and CPR training; this training must, at a minimum, conform to the requirements listed in Appendix B of the Standard.

Paragraph (i)(10)(i) specifies that employers must certify the training provided to employees. This certification must be in writing and provide the following information: The name or identifier of the employee; the date(s) of the training; and either the signature of the employer or the individual who conducted the training. Paragraph (i)(10)(ii) requires employers to maintain the most recent certification for training completed by an employee.

Training employees and supervisors in safe work practices and to recognize and control the safety and health hazards associated with their work tasks and overall logging operations enables them to avoid or prevent exposure to these hazards. In addition, the requirement to train every employee and supervisor in first-aid and CPR optimizes their availability to administer emergency treatment to employees injured during logging operations; universal training is critical because logging operations occur at isolated locations with employees and supervisors distributed over large work areas.

Establishing and maintaining written certification of the training provided to each employee assures the employer that every employee receives the training specified by the Standard, and at the required frequencies. In addition, these records provide the most efficient means for an OSHA compliance officer to determine whether or not an employer preformed the required training at the necessary and appropriate frequencies.

II. Special Issues for Comment

OSHA has a particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and -transmission techniques.

III. Proposed Actions

OSHA proposes to decrease the existing burden-hour estimate, and to extend OMB approval, of the collection-of-information requirements specified by the Standard. In this regard, the Agency is proposing to decrease the current burden-hour estimate from 73,106 hours 3,192 hours, a total reduction of 69,914 hours. The Agency will summarize the comments submitted in response to this notice, and will include this summary in its request to OMB to extend the approval of this information-collection requirement.

Type of Review: Extension of currently approved information-collection requirement.

Title: Logging Operations (29 CFR 1910.266).

OMB Number: 1218-0198.

Affected Public: Business or other for-profit; not-for-profit institutions; Federal government; State, local or tribal governments.

Number of Respondents: 14,000.

Frequency of Response: Annually; occasionally.

Average Time per Response: Either 2 minutes (0.03 hours) or 5 minutes (.08 hours) depending on type of training.

Estimated Total Burden Hours: 2,940.

Estimated Cost (Operation and Maintenance): $0.

IV. Authority and Signature

R. Davis Layne, Acting Assistant Secretary of Labor and Occupational Safety and Health, directed the preparation of this notice. The authority for this notice is the Paperwork Reduction Act of 1995 (44 U.S.C. 3506), Secretary of Labor's Order No. 3-2000 (65 FR 50017).

Signed at Washington, DC on April 27th, 2001.
R. Davis Layne,
Acting Assistant Secretary of Labor.

[FR Doc. 01-11023 Filed 5-1-01; 8:45 am]

BILLING CODE 4510-26-M